DEPARTMENT OF ENERGY

Federal Energy Regulatory Commission

Combined Notice of Filings #1

July 14, 2005.

Take notice that the Commission received the following electric rate filings.

Docket Numbers: ER00-2187-001.

Applicants: CMS Distributed Power, L.L.C.

Description: CMS Distributed Power, L.L.C.'s response to the requirement to file a generation market power analysis together with tariff modification to comply with FERC's rulings and related materials.

Filed Date: 7/11/2005.

Accession Number: 20050713-0073.

Comment Date: 5 p.m. Eastern Time on Monday, August 1, 2005.

Docket Numbers: ER00-2687-007.

Applicants: Union Electric Company.

Description: Union Electric Company submits notification of change in status regarding AmerenUE relevant to its continued authorization to sell power at market-based rates.

Filed Date: 7/11/2005.

Accession Number: 20050713-0070.

Comment Date: 5 p.m. Eastern Time on Monday, August 1, 2005.

Docket Numbers: ER01-205-008; ER98-2640-006; ER98-4590-004; ER99-1610-011.

Applicants: Xcel Energy Services, Inc.; Northern States Power Company and Northern States Power Company (Wisconsin); Public Service Company of Colorado; Southwestern Public Service Company.

Description: Xcel Energy Services Inc, on behalf of itself and the Xcel Energy Operating Companies, Northern States Power Company and Northern States Power Company (Wisconsin), Public Service Company of Colorado and Southwestern Public Service Company, submits an errata to correct the description of the change in status submitted 7/1/05.

Filed Date: 7/12/2005.

Accession Number: 20050714-0154.

Comment Date: 5 p.m. Eastern Time on Tuesday, August 2, 2005.

Docket Numbers: ER04-230-011; ER01-3155-009; EL01-45-017; ER01-1385-018.

Applicants: New York Independent System Operator, Inc.

Description: New York Independent System Operator, Inc. submits its compliance filing which modifies Attachment H of its Market Administration & Control Area Services Tariff, to remove the tariff provisions that permit the application of the NYISO's automatic mitigation procedures to generator's operating in the rest-of-state, real-time market pursuant to the Commission's Order issued 6/24/05, 111 FERC 61,468 (2005).

Filed Date: 7/11/2005.

Accession Number: 20050713-0069.

Comment Date: 5 p.m. Eastern Time on Monday, August 1, 2005.

Docket Numbers: ER04-1265-003.

Applicants: Mystic I, LLC; Mystic Development, LLC; Fore River Development, LLC.

Description: Mystic I, LLC, Mystic Development, LLC & Fore River Development, LLC, submit their revised versions of the market-based tariffs with the correct designations in compliance with the Commission's 6/7/05 letter order.

Filed Date: 7/7/2005.

Accession Number: 20050713-0071.

Comment Date: 5 p.m. Eastern Time on Thursday, July 28, 2005.

Docket Numbers: ER05-940-000.

Applicants: Vesta Capital Partners LP.

Description: Vesta Capital Partners, LP submits a Notice of Withdrawal of its proposed Initial Rate Schedule, FERC Electric Tariff, Original Volume 1 filed on 5/5/05.

Filed Date: 7/5/2005.

Accession Number: 20050708-0037.

Comment Date: 5 p.m. Eastern Time on Tuesday, July 26, 2005.

Docket Numbers: ER05-1179-001.

Applicants: Berkshire Power Company, LLC.

Description: Berkshire Power Company, LLC submits Exhibit FMB-2, which provides detailed cost & revenue information for Berkshire for the calendar year 2000 through 2004, amending its 6/30/05 filing in ER05-1179-000.

Filed Date: 7/8/2005.

Accession Number: 20050712-0210.

Comment Date: 5 p.m. Eastern Time on Thursday, July 21, 2005.

Docket Numbers: ER05-1207-000.

Applicants: Southwestern Electric Power Company.

Description: Southwestern Electric Power Company submits changes in rates applicable to transmission service to be provided to Arkansas Electric Cooperative Corporation for the period 7/1/05 to 12/21/07.

Filed Date: 7/11/2005.

Accession Number: 20050713-0074.

Comment Date: 5 p.m. Eastern Time on Monday, August 1, 2005.

Docket Numbers: ER97-2801-008, ER03-478-006 and EL05-95-000.

Applicants: PacifiCorp.

Description: PacifiCorp and PPM Energy, Inc., provides their second and final filing in compliance with FERC's 5/9/05 order.

Filed Date: 7/8/2005, as amended 7/12/2005.

Accession Number: 20050712-0286.

Comment Date: 5 p.m. Eastern Time on Friday, July 29, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Linda Mitry,
Deputy Secretary.

[FR Doc. E5-3899 Filed 7-20-05; 8:45 am]

BILLING CODE 6717-01-P